DEPARTMENT OF VETERANS AFFAIRS

[OMB Control No. 2900-0825]

Agency Information Collection Activity: The Veterans' Outcome Assessment (VOA) (Veteran Survey Interview)

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before August 25, 2017.

ADDRESSES: Submit written comments on the collection of information through Federal Docket Management System (FDMS) at www.Regulations.gov or to Cynthia Harvey-Pryor, Office of Information & Technology (005R1B), Department of Veterans Affairs, 810 Vermont Avenue NW., Washington, DC 20420 or email to Cynthia.Harvey-Pryor@va.gov. Please refer to “OMB Control No. 2900-0825” in any correspondence. During the comment period, comments may be viewed online through FDMS.

FOR FURTHER INFORMATION CONTACT: Cynthia Harvey-Pryor at (202) 461-5870.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 112-239 Sec. 726

Title:

a. Veterans Outcome Assessment—Baseline

b. Veterans Outcome Assessment—Follow Up

OMB Control Number: 2900-0825.

Type of Review: Revision of a currently approved collection.

Abstract: The mental health outcomes information obtained through this new collection will be used by VA leadership, including those in the Offices of Mental Health Operations and Mental Health Services, Network offices, and VA Medical Centers. Such information on Veteran mental health outcomes is crucial to guide resource allocation and programmatic decisions for mental health programs and to intervene effectively to prevent individual adverse outcomes such as suicide, overdose deaths, and morbidities associated with mental illness and to support recovery-oriented treatment designed to improve functioning and reduce symptoms. The data will allow VA policy makers to reliably track national performance on a quarterly basis and to track VISN performance on a yearly basis. These data will reveal trends in outcomes over time and will help in pinpointing programs that are doing well in terms of patient outcomes, so that other programs can emulate their practices, as well as identifying those programs that are performing poorly so that steps can be taken to improve them. Results of the survey will be reported to Congress and will influence decisions on funding. The VOA will thus provide Veterans who are experiencing mental health problems with a direct voice in program evaluation and improvement. Summary data on performance also will be available on a public Web site, as mandated by the NDAA, to provide Veterans and their families with additional information for purposes of managing their mental health treatment and U.S. citizens with information regarding VA's mental health programs and Veterans satisfaction with their care.

Affected Public: Individuals and households.

Estimated Annual Burden: 11,236 hours.

Estimated Average Burden per Respondent: .42 hours.

Frequency of Response: Annually.

Estimated Number of Respondents: 26,752.

By direction of the Secretary.
Cynthia Harvey-Pryor,
Department Clearance Officer, Office of Privacy and Records Management, Department of Veterans Affairs.

[FR Doc. 2017-13304 Filed 6-23-17; 8:45 am]

BILLING CODE 8320-01-P